INTERNATIONAL TRADE COMMISSION

[Investigation No. 731-TA-1114 (Final)]

Certain Steel Nails From China

Determination

On the basis of the record ¹ developed in the subject investigation, the United States International Trade Commission (Commission) determines, pursuant to section 735(b) of the Tariff Act of 1930 (19 U.S.C. 1673d(b)) (the Act), that an industry in the United States is materially injured by reason of imports from China of certain steel nails, provided for in subheadings 7317.00.55, 7317.00.65, and 7317.00.75 of the Harmonized Tariff Schedule of the United States, that have been found by the Department of Commerce (Commerce) to be sold in the United States at less than fair value (LTFV).²

¹ The record is defined in sec. 207.2(f) of the Commission's Rules of Practice and Procedure (19 CFR § 207.2(f)).

² The Commission further determines that critical circumstances do not exist with respect to those imports of the subject merchandise from China that were subject to the affirmative critical circumstances determination by the Department of Commerce.

Background

The Commission instituted this investigation effective May 29, 2007, following receipt of a petition filed with the Commission and Commerce by Davis Wire Corp. (Irwindale, CA), Gerdau Ameristeel Corp. (Tampa, FL), Maze Nails (Peru, IL), Mid Continent Nail Corp. (Poplar Bluff, MO), and Treasure Coast Fasteners, Inc. (Fort Pierce, FL).³ The final phase of the investigation was scheduled by the Commission following notification of a preliminary determination by Commerce that imports of certain steel nails from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of February 8, 2008 (73 FR 7590). The hearing was held in Washington, DC, on June 11, 2008, and all persons who requested the opportunity were permitted to appear in person or by counsel.

³ On June 22, 2007, the United Steel, Paper and Forestry, Rubber, Manufacturing, Energy, Allied Industrial and Service Workers International Union was added as a co-petitioner.

The Commission transmitted its determination in this investigation to the Secretary of Commerce on July 21, 2008. The views of the Commission are contained in USITC Publication 4022 (July 2008), entitled Certain Steel Nails from China, Investigation No. 731-TA-1114 (Final).

By order of the Commission.
Issued: July 21, 2008.
Marilyn R. Abbott,
Secretary to the Commission.

[FR Doc. E8-17095 Filed 7-24-08; 8:45 am]

BILLING CODE 7020-02-P